DEPARTMENT OF COMMERCE

International Trade Administration

[A-570-848]

Notice of Extension of Time Limit for Preliminary Results of New-Shipper Antidumping Review: Freshwater Crawfish Tail Meat From the People's Republic of China

AGENCY: Import Administration, International Trade Administration, Department of Commerce.

EFFECTIVE DATE: October 30, 2000.

FOR FURTHER INFORMATION CONTACT: Christian Hughes or Maureen Flannery, Import Administration, International Trade Administration, U.S. Department of Commerce, 14th Street and Constitution Avenue, NW., Washington, D.C. 20230; telephone: (202) 482-4106 and (202) 482-3020, respectively.

The Applicable Statute

Unless otherwise indicated, all citations to the Tariff Act of 1930, as amended (the Act) are to the provisions effective January 1, 1995, the effective date of the amendments made to the Act by the Uruguay Round Agreements Act. In addition, unless otherwise indicated, all citations to the Department's regulations are to 19 CFR part 351 (1999).

Background

On June 1, 2000, the Department published a notice of initiation of new shipper administrative reviews of the antidumping duty order on Freshwater Crawfish Tail Meat from the People's Republic of China, covering the period September 1, 1999 through February 29, 2000 (65 FR 35046). The preliminary results are currently due no later than November 21, 2000.

Extension of Time Limit for Preliminary Results

Because of the complexities enumerated in the Memorandum from Barbara E. Tillman to Joseph A. Spetrini, Extension of Time Limit for the Preliminary Results of New Shipper Review of Freshwater Crawfish Tail Meat from the People's Republic of China, dated October 24, 2000, we find this case is extraordinarily complicated and thus are unable to complete this review by the scheduled deadline. Therefore, in accordance with section 351.214(i)(2) of the Department's regulations, the Department is extending the time period for issuing the preliminary results of review by 120 days (i.e., until March 21, 2001).

Dated: October 24, 2000.
Edward C. Yang,
Acting Deputy Assistant Secretary, AD/CVD Enforcement Group III.

[FR Doc. 00-27811 Filed 10-27-00; 8:45 am]

BILLING CODE 3510-DS-P